DEPARTMENT OF THE INTERIOR

Office of the Assistant Secretary—Water and Science; Central Utah Project Completion Act; Notice of Intent to Prepare an Environmental Assessment for the Diamond Fork Proposed Action Modifications

AGENCY: Office of the Assistant Secretary—Water and Science, Department of the Interior.

ACTION: Notice of intent to prepare an Environmental Assessment for the Diamond Fork Proposed Action Modifications.

SUMMARY: Pursuant to the National Environmental Policy Act of 1969, the Central Utah Water Conservancy District (CUWCD), Utah Reclamation Mitigation and Conservation Commission (Mitigation Commission), and the Department of the Interior (Interior) announces their intent to prepare an Environmental Assessment (EA) on the Diamond Fork Proposed Action Modifications.

This EA will address modifications to the Proposed Action as a result of value engineering studies on the Proposed Action of the Diamond Fork System 1999 Final Supplement to the Final Environmental Impact Statement (FSFEIS) that was filed with the Environmental Protection Agency July 1, 1999. A Record of Decision (1999 ROD) documenting the selection of the Proposed Action Alternative as presented in the FSFEIS was signed by the Assistant Secretary—Water and Science on September 29, 1999. The 1999 ROD allowed for value engineering studies, pursuant to public law 104-106, to be conducted on the Proposed Action to further reduce environmental impacts or project construction costs. Based on value engineering studies the following modifications to the Proposed Action will be addressed in the EA: (1) Replacing a series of tunnels and pipelines with one tunnel and one pipeline; (2) relocating flow control facilities; and (3) adjusting the alignment of the Diamond Fork System. The proposed modifications will reduce environmental impacts and reduce project construction costs while not changing the Proposed Action's purposes or needs as described in the FSFEIS and 1999 ROD.

DATES: Information relating to the EA will be announced in local newspapers and/or mailed to interested parties. Upon completion of a draft EA a notice of availability will be published in the Federal Register.

FOR FURTHER INFORMATION CONTACT: Harold Sersland, Environmental Program Manger, Central Utah Water Conservancy District, 355 West University Parkway, Orem, Utah 84058-7303, (801) 226-7110.

SUPPLEMENTARY INFORMATION: The purpose of this Notice of Intent is to inform the public, local, State, and Federal government agencies that an EA will be prepared. Information, data, opinions, and comments obtained on the draft EA may be used in the preparation of the final EA.

Dated: January 19, 2000.
Ronald Johnston,
CUP Program Director, Department of the Interior.

[FR Doc. 00-1714 Filed 1-24-00; 8:45 am]

BILLING CODE 4310-RK-P